POSTAL SERVICE

39 CFR Part 501

Authorization to Manufacture and Distribute Postage Meters; Correction

AGENCY: Postal Service.

ACTION: Final rule; correction.

SUMMARY: The Postal Service published in the Federal Register of November 18, 2002, a final rule amending the regulations for inspecting postage meter production facilities that are located outside the continental United States. Inadvertently, some paragraphs of the regulation were designated incorrectly.

DATES: This correction is effective November 18, 2002.

FOR FURTHER INFORMATION CONTACT: Wayne Wilkerson, manager of Postage Technology Management, at 703-292-3782, or by fax at 703-292-4050.

SUPPLEMENTARY INFORMATION: In the final rule published in the Federal Register of November 18, 2002 (67 FR 69478-69479), two paragraphs in section 501.2 were designated incorrectly.

§ 501.2 [Corrected]

On page 69479, in the first column, the paragraph designated as (c)(i) should be correctly designated as (c)(1), and in the second column the paragraph designated as (c)(ii) should be correctly designated as (c)(2).

Dated: November 18, 2002.
Stanley F. Mires,
Chief Counsel, Legislative.

[FR Doc. 02-30650 Filed 12-2-02; 8:45 am]

BILLING CODE 7710-12-P